SECURITIES AND EXCHANGE COMMISSION

[File No. 500-1]

In the Matter of: Affinity Networks, Inc.; Order of Suspension of Trading

May 28, 2008.

It appears to the Securities and Exchange Commission that the public interest and the protection of investors require a suspension of trading in the securities of Affinity Networks, Inc. (“Affinity”) because there is a lack of current and accurate information concerning its securities. Affinity is quoted on the Pink Sheets under the ticker symbol AFFN.

The Commission is of the opinion that the public interest and the protection of investors require a suspension of trading in the securities of the above-listed company.

Therefore, it is ordered, pursuant to section 12(k) of the Securities Exchange Act of 1934, that trading in the above-listed company is suspended for the period from 9:30 a.m. EDT May 28, 2008 through 11:59 p.m. EDT, on June 10, 2008.

By the Commission.
Florence E. Harmon,
Acting Secretary.

[FR Doc. 08-1312 Filed 5-28-08; 11:35 am]

BILLING CODE 8010-01-P